ENVIRONMENTAL PROTECTION AGENCY

[EPA-R02-OAR-2025-2402; FRL 13040-01-R2]

Issuance of Part 71 Federal Operating Air Permit for Turning Stone Resort and Casino, Oneida Indian Nation; Notice of Final Action

AGENCY: Environmental Protection Agency (EPA).

ACTION: Notice of final action.

SUMMARY: This notice announces that the Environmental Protection Agency (EPA) issued a final Title V Federal Operating air permit pursuant to Title V of the Clean Air Act for Turning Stone Resort and Casino, owned by the Oneida Indian Nation, located within the boundaries of the Oneida Indian Nation, Oneida Indian Reservation, in Oneida County, Verona, New York.

DATES: The EPA issued Part 71 Federal Operating Air Permit No. ONEIDA004 to Turning Stone Resort and Casino on September 11, 2025 under Title V of the Clean Air Act and 40 CFR part 71. The permit became effective on September 11, 2025.

FOR FURTHER INFORMATION CONTACT: Viorica Petriman, Environmental Engineer, Air and Radiation Division, EPA, Region 2, at (212) 637-4021 or at petriman.viorica@epa.gov.

SUPPLEMENTARY INFORMATION: Throughout this document whenever “we”, “us”, or “our” is used, we mean EPA. This SUPPLEMENTARY INFORMATION section is arranged as follows:

Table of Contents

I. How can I get copies of this document and other related information?

II. Background

III. Effect of This Action

I. How can I get copies of this document and other related information?

The EPA has established a docket for this action under Docket ID Number EPA-R02-OAR-2025-2402. Publicly available docket materials, including the final permit along with the application and all other related documents are available in the docket at https://www.regulations.gov.

II. Background

On July 11, 2025, the EPA Region 2 proposed a draft Part 71 permit renewal for Turning Stone Resort and Casino and requested public comment on the draft permit.

The Part 71 permit is a permit renewal that allows the facility to continue to operate its existing emission sources in accordance with the permit, but it does not authorize the addition of any new emission source or any increase in emissions.

During the public comment period, which ended on August 18, 2025, we did not receive any comments. The EPA issued the final permit without making any changes from the draft to the final permit decision, and, thus, as provided by 40 CFR 71.11(i)(2)(iii), the final permit became effective immediately upon issuance. We provided the facility with information regarding the opportunity to appeal the final Part 71 permit administratively, consistent with 40 CFR 71.11(l) and section 307(b) of the Clean Air Act.

40 CFR 124.19(l)(3)(iii) requires that the EPA provide notice in the Federal Register of any final agency action regarding Federal Title V operating permits issued under 40 CFR part 71.

Section 307(b)(1) of the CAA provides for judicial review of the final agency action within sixty (60) days from the date on which notice of the action appears in the Federal Register. A petition to the EPA's Environmental Appeals Board for administrative review is a prerequisite to seeking judicial review. 40 CFR 124.19(l). Since no such petitions for administrative review were submitted for the Turning Stone Resort and Casino final Part 71 Federal Operating air permit, no judicial review for this final Part 71 air permit may be sought. Under section 307(b)(2) of the CAA, this determination to issue a final Part 71 Federal Operating air permit shall not be subject to later judicial review in civil or criminal proceedings for enforcement.

III. Effect of This Action

Since no changes were made from draft to the final permit, the final Part 71 Federal Operating air permit became effective on September 11, 2025, as consistent with 40 CFR 71.11(l). This final permit will expire on September 11, 2030.

Authority:42 U.S.C. 7401 et seq.

Michael Martucci,
Regional Administrator, Region 2.

[FR Doc. 2025-20126 Filed 11-17-25; 8:45 am]

BILLING CODE 6560-50-P